DEPARTMENT OF ENERGY

Federal Energy Regulatory Commission

Combined Notice of Filings #1

Take notice that the Commission received the following electric corporate filings:

Docket Numbers: EC13-52-000.

Applicants: JPM Capital Corporation.

Description: Section 203 Application of JPM Capital Corporation Requesting Expedited Order and Confidential Treatment.

Filed Date: 12/19/12.

Accession Number: 20121219-5265.

Comments Due: 5 p.m. ET 1/9/13.

Take notice that the Commission received the following electric rate filings:

Docket Numbers: ER10-1790-009; ER12-1400-002; ER10-2595-002.

Applicants: BP Energy Company, Flat Ridge 2 Wind Energy LLC, Flat Ridge Wind Energy, LLC.

Description: Updated Market Power Analysis for Southwest Power Pool Region of BP Energy Company, et. al.

Filed Date: 12/19/12.

Accession Number: 20121219-5266.

Comments Due: 5 p.m. ET 1/9/13.

Docket Numbers: ER12-2669-002.

Applicants: California Independent System Operator Corporation.

Description: 2012-12-19 Replacement Requirement for RA Maintenance Outages Compliance to be effective 11/20/2012.

Filed Date: 12/20/12.

Accession Number: 20121220-5100.

Comments Due: 5 p.m. ET 1/10/13.

Docket Numbers: ER13-81-002.

Applicants: Frontier Utilities New York LLC.

Description: Revised transmittal Letter to be effective 10/12/2012.

Filed Date: 12/20/12.

Accession Number: 20121220-5055.

Comments Due: 5 p.m. ET 1/10/13.

Docket Numbers: ER13-586-000.

Applicants: California Independent System Operator Corporation.

Description: 2012-12-19 Second Amendment to Valley Electric Transition Agreement to be effective 2/19/2013.

Filed Date: 12/19/12.

Accession Number: 20121219-5135.

Comments Due: 5 p.m. ET 1/9/13.

Docket Numbers: ER13-587-000.

Applicants: Carson Cogeneration Company LP.

Description: Application for Order Accepting Initial Market-Based Rate Tariff to be effective 2/1/2013.

Filed Date: 12/19/12.

Accession Number: 20121219-5161.

Comments Due: 5 p.m. ET 1/9/13.

Docket Numbers: ER13-588-000.

Applicants: New York Independent System Operator, Inc.

Description: NYISO Proposed Tariff Revisions Regarding Interconnection Process Improvements to be effective 2/18/2013.

Filed Date: 12/19/12.

Accession Number: 20121219-5171.

Comments Due: 5 p.m. ET 1/9/13.

Docket Numbers: ER13-589-000.

Applicants: Commonwealth Edison Company, PJM Interconnection, L.L.C.

Description: ComEd and Ameren submit PJM Service Agreement No. 3421 to be effective 12/20/2012.

Filed Date: 12/19/12.

Accession Number: 20121219-5181.

Comments Due: 5 p.m. ET 1/9/13.

Docket Numbers: ER13-590-000.

Applicants: Southern California Edison Company.

Description: LGIA with Sky River and Amended LGIA with North Sky River Energy to be effective 12/12/2012.

Filed Date: 12/20/12.

Accession Number: 20121220-5000.

Comments Due: 5 p.m. ET 1/10/13.

Docket Numbers: ER13-591-000.

Applicants: Louisville Gas and Electric Company.

Description: OATT ATT M LGIA Rev Sec 5 17 2 to be effective 12/21/2012.

Filed Date: 12/20/12.

Accession Number: 20121220-5056.

Comments Due: 5 p.m. ET 1/10/13.

Docket Numbers: ER13-592-000.

Applicants: Wisconsin Public Service Corporation.

Description: WPSC Distribution Interconnection Agreement with WEPCO to be effective 1/1/2013.

Filed Date: 12/20/12.

Accession Number: 20121220-5098.

Comments Due: 5 p.m. ET 1/10/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 20, 2012.
Nathaniel J. Davis, Sr.,
Deputy Secretary.

[FR Doc. 2012-31368 Filed 12-28-12; 8:45 am]

BILLING CODE 6717-01-P